NATIONAL CRIME PREVENTION AND PRIVACY COMPACT COUNCIL

Fingerprint Submission Requirements

AGENCY: National Crime Prevention and Privacy Compact Council.

ACTION: Notice of approval of the Oklahoma proposal.

SUMMARY: As a result of the Coronavirus (COVID-19) pandemic, the National Crime Prevention and Privacy Compact Council (Compact Council) approves a proposal submitted by the Oklahoma State Bureau of Investigation, under the previously approved Florida proposal as amended by the subsequent Florida proposal, requesting access to the Interstate Identification Index (III) System, maintained by the Federal Bureau of Investigation (FBI), on a delayed fingerprint submission basis for emergency child placement purposes.

FOR FURTHER INFORMATION CONTACT: Inquiries may be addressed to Mrs. Chasity S. Anderson, FBI Compact Officer, Biometric Technology Center, 1000 Custer Hollow Road, Clarksburg, West Virginia 26306, telephone 304-625-2803.

SUPPLEMENTARY INFORMATION: Title 28, Code of Federal Regulations (CFR), part 901, specifically § 901.3, gives authority to the Compact Council, established by the National Crime Prevention and Privacy Compact Act of 1998 (Compact), to approve proposals for delayed submission of fingerprints supporting requests for III records by agencies authorized to access and receive criminal history records under Public Law 92-544. The proposals must fully describe the emergency nature of the situation in which delayed submission authority is being sought, the risk to health and safety of the individuals involved, and the reasons why the submission of fingerprints contemporaneously with the search request is not feasible. The Oklahoma proposal makes such a request when conducting criminal history record checks in connection with temporary placement of children in exigent circumstances. Due to the national COVID-19 emergency and limiting close contact with another person, as well as the unavailability or limited availability of noncriminal justice fingerprinting services, the Oklahoma proposal temporarily expands the 15-calendar day requirement as noted in the amended Florida proposal during the coronavirus pandemic. The Oklahoma proposal was submitted by email dated March 27, 2020, and approved by the Compact Council on November 4, 2020, pursuant to 28 CFR 901.2 and 901.3. Access to the III System to conduct name-based criminal history record checks, followed by fingerprint submissions, provides a responsive and timely avenue to determine whether a person presents a risk to children during exigent circumstances when time is of the essence. Pursuant to the Oklahoma proposal, such name-based checks will be followed by the submission of the person's fingerprints to the FBI as soon as possible, but not later than 180-calendar days from the date of the preliminary III name-based check, or 90-calendar days from the expiration of the state's emergency declaration, whichever occurs sooner.

Authority: 34 U.S.C. 40316.

Dated: October 27, 2021.
Leslie Moore,
Compact Council Chairman.

Proposal From Oklahoma to the National Crime Prevention and Privacy Compact Council Under the Fingerprint Submission Requirements Rule

As a result of the Coronavirus pandemic, and the declaration of a state of emergency, the Oklahoma State Bureau of Investigation requests temporary approval under the previously approved Florida Proposal published in the Federal Register (FR) Notice dated May 21, 2001 (66 FR 28004), as amended by the subsequent Florida Proposal dated August 8, 2003 (68 FR 47369), which was submitted pursuant to the National Crime Prevention and Privacy Compact (Compact) Council's (Council) Fingerprint Submission Requirements Rule (Rule) (Title 28, Code of Federal Regulations [CFR], Part 901). The previously approved proposal provided for the delayed submission of fingerprints to the FBI within 15-calendar days of conducting preliminary Interstate Identification Index (III) name-based checks when conducting criminal history record checks in connection with the temporary placement of children during exigent circumstances. This request is for the sole purpose of temporarily expanding the “15-calendar days” to as soon as possible, but not later than 180-calendar days during the Coronavirus pandemic, or 90-calendar days from the expiration of the state's emergency declaration, whichever occurs sooner. In addition, the state recognizes the risk associated with a name-based check; however, due to the national pandemic and the initiative to limit close contact with another person, as well as the unavailability or limited availability of noncriminal justice fingerprinting services, it is imperative that a preliminary III name-based check be conducted.

The preliminary III name-based check and submission of follow-up fingerprints shall be conducted in accordance with state laws and procedures. The state will continue to be responsible for submitting the follow-up fingerprints in the time frame specified by the Council.

The individual(s) will be required to be fingerprinted as soon as possible, but not later than 180-calendar days from the date of the preliminary III name-based check, or 90-calendar days from the expiration of the state's emergency declaration, whichever occurs sooner. Once obtained, the fingerprints must be immediately submitted to the state repository which will either positively identify the fingerprinted subject or will forward the fingerprints to the FBI.

All other provisions of the approved original Florida Proposal and the approved amended Florida Proposal will remain intact, including the Council's policy guidance for use of the Rule.

Those state agencies previously authorized access to the III pursuant to 28 CFR 901.3, wishing to take advantage of the extended time frame, must submit new written requests to the FBI Compact Officer. Approvals to utilize this amended proposal will expire 30-calendar days from the date the state cancels its emergency declaration.

If the Council does not approve this temporary proposal during its next public-held meeting, this temporary proposal will expire immediately.

[FR Doc. 2021-24725 Filed 11-12-21; 8:45 am]

BILLING CODE 4410-02-P